DEPARTMENT OF HEALTH AND HUMAN SERVICES

Centers for Medicare & Medicaid Services

[Document Identifiers: CMS-R-282 and CMS-10597]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by February 12, 2016.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-R-282 Medicare Advantage Appeals and Grievance Data Disclosure Requirements and Supporting Regulations (42 CFR 422.111)

CMS-10597 CMS Healthcare.gov Site Wide Online Survey

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension without change of a currently approved collection; Title of Information Collection: Medicare Advantage Appeals and Grievance Data Disclosure Requirements (42 CFR 422.111); Use: Medicare Advantage (MA) organizations and demonstrations are required to collect and disclose information pertaining to the number of disputes, and their disposition in the aggregate, with the categories of grievances and appeals to any individual eligible to elect an MA organization who requests this information. The CMS continues to need the same format and form for reporting. Form Number: CMS-R-282 (OMB control number: 0938-0778); Frequency: Annually and semi-annually; Affected Public: Private Sector (Business or other for-profit and Not-for-profit institutions); Number of Respondents: 53,730; Total Annual Responses: 54,460; Total Annual Hours: 5,700. (For policy questions regarding this collection contact Stephanie Simons at 206-615-2420.)

2. Type of Information Collection Request: New collection (Request for a new OMB control number; Title of Information Collection: CMS Healthcare.gov Site Wide Online Survey; Use: The purpose of the survey is to gain an understanding of user experience, comprehension, and satisfaction with using the Federal Health Insurance Marketplace Web site established by the Affordable Care Act. The Marketplace provides coverage to uninsured Americans, as well as those already enrolled in Marketplace health insurance. One of the ways to purchase Marketplace insurance is through the online tools on HealthCare.gov. We have developed a survey to be administered to consumers while they are using the Web site. This survey is part of a continuing data collection program mandated by the ACA. It is designed to support the program goal to provide tools and information to help consumers to successfully find health insurance that they may not otherwise qualify for or find. Monitoring usability and the user experience through this ongoing survey provides the Web site developers with valuable information for use in continuous improvement of the Web site. The Web site survey is part of a larger research program to inform the development and enhancement of web tools for CMS programs such as the Health Insurance Marketplace. Form Number: CMS-10597 (OMB control number: 0938—New); Frequency: Weekly, Monthly, Occasionally; Affected Public: Individuals or Households; Number of Respondents: 14,000; Total Annual Responses: 14,000; Total Annual Hours: 933. (For policy questions regarding this collection contact Frank Funderburk at 410-786-1820.)

Dated: December 9, 2015.
William N. Parham, III,
Director, Paperwork Reduction Staff, Office of Strategic Operations and Regulatory Affairs.

[FR Doc. 2015-31399 Filed 12-11-15; 8:45 am]

BILLING CODE 4120-01-P